DEPARTMENT OF ENERGY

Energy Information Administration

Notice of Energy Information Administration Policy for Disseminating Revisions to Petroleum Supply Reporting System Data

AGENCY: Energy Information Administration (EIA), Department of Energy (DOE).

ACTION: Notice of Energy Information Administration Policy for Disseminating Revisions to Petroleum Supply Reporting System Data.

SUMMARY: The EIA is formalizing its existing policy for disseminating revisions to Petroleum Supply Reporting System (PSRS) data. PSRS information products include data on production, receipts, inputs, movements, and stocks of crude oil, petroleum products, and natural gas liquids in the United States.

DATES: Comments must be filed by August 9, 2004. If you anticipate difficulty in submitting comments within that period, contact the person listed below as soon as possible.

ADDRESSES: Comments on this policy should be directed to Stefanie Palumbo of EIA's Petroleum Division. To ensure receipt of the comments by the due date, submission by Fax (202-586-5846) or e-mail (stefanie.palumbo@eia.doe.gov) is recommended. The mailing address is Petroleum Division, EI-42, Forrestal Building, U.S. Department of Energy, 1000 Independence Ave., SW., Washington, DC 20585. Alternatively, Stefanie Palumbo may be contacted by telephone at (202) 586-6866.

FOR FURTHER INFORMATION CONTACT: Requests for additional information about this policy should be directed to Ms. Palumbo at the address listed above. Additional information on EIA's petroleum supply program is available on EIA's Internet site at http://www.eia.doe.gov/oil_gas/petroleum/info_glance/petroleum.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA provides the public and other Federal agencies with opportunities to comment on collections of energy information conducted by EIA. As appropriate, EIA also requests comments on important issues relevant to EIA dissemination of energy information. Comments received help the EIA when preparing information collections and information products necessary to EIA's mission.

The purpose of EIA's Petroleum Supply Reporting System (PSRS) is to collect and disseminate basic and detailed data to meet EIA's mandates and energy data users' needs for credible, reliable, and timely information on U.S. petroleum supply. Adequate understanding of the U.S. petroleum industry requires data on production, receipts, inputs, movements, and stocks of crude oil, petroleum products, and natural gas liquids.

The PSRS is comprised of 16 surveys (i.e., six weekly surveys, nine monthly surveys, and one annual survey). The surveys are:

• EIA-800, Weekly Refinery and Fractionator Report,

• EIA-801, Weekly Bulk Terminal Report,

• EIA-802, Weekly Product Pipeline Report,

• EIA-803, Weekly Crude Oil Stocks Report,

• EIA-804, Weekly Imports Report,

• EIA-805, Weekly Terminal Blenders Report,

• EIA-810, Monthly Refinery Report,

• EIA-811, Monthly Bulk Terminal Report,

• EIA-812, Monthly Product Pipeline Report,

• EIA-813, Monthly Crude Oil Report,

• EIA-814, Monthly Imports Report,

• EIA-815, Monthly Terminal Blenders Report,

• EIA-816, Monthly Natural Gas Liquids Report,

• EIA-817, Monthly Tanker and Barge Movement Report,

• EIA-819, Monthly Oxygenate Report, and

• EIA-820 Annual Refinery Report.

Both weekly and monthly surveys are administered at five key points along the petroleum production and supply path: (1) Refineries, (2) bulk terminals, (3) product pipelines, (4) crude oil stock holders, and (5) importers of crude oil and products. Data collected weekly using weekly Forms EIA-800 through EIA-805 are similar, although less detailed and accurate, than data collected monthly using Forms EIA-810 through EIA-815.

The data are disseminated in EIA's petroleum supply information products—the Weekly Petroleum Status Report (WPSR), This Week in Petroleum (TWIP), the Petroleum Supply Monthly (PSM), and the Petroleum Supply Annual Volumes 1 and 2 (PSA). Within five days of the close of the reference week (excluding holiday weeks), weekly PSRS data are disseminated in the WPSR and TWIP to provide timely, relevant snapshots of the U.S. petroleum industry. Within two months of the close of a reference month, data based on the monthly surveys is disseminated in the PSM. About five months after the end of the reference year, final monthly data as well as annual data are published in the PSA.

Accuracy of the survey data is measured as the closeness of the disseminated values to the true values (i.e., those values that would be obtained if the entire target population had been surveyed and all the data had been precisely recorded). To help users of PSRS data, EIA addresses data accuracy in two publicly available documents: (1) The feature article “Accuracy of Petroleum Supply Data” published annually in one issue of the PSM, and (2) Table C1, “Impact of Resubmissions on Major Series,” published in each issue of the PSM.

The weekly PSRS data are expected to be less accurate than the PSM data because the data are collected from a sample of companies rather than from all companies. Estimates are made for the nonsampled companies. Additionally, companies must frequently estimate data they submit weekly, but can base monthly data on accounting records. Finally, the WPSR is on a tight time schedule for publication, and the weekly surveys have a somewhat lower response rate (but still greater than 95%) than the corresponding monthly surveys. Estimates are made for companies whose data are not available at time of publication. The annual PSA data are most accurate. Companies file resubmissions and EIA has time to carefully edit the data and resolve any ambiguities with the respondent. EIA has received data from almost 100% of respondents by the time the PSA is published.

While the major weekly petroleum supply data series tend to track quite well with corresponding monthly data, certain series demonstrate more variation in trend relative to monthly patterns, even though the end of month comparisons may track favorably. Imports of crude oil and petroleum products and crude oil stocks have historically exhibited the most variation from week to week. For example, the graph in Figure 1 shows crude oil inventories from the end of December 2003 to the end of January 2004. Included is a 5-year crude stock trend line that shows the expected crude oil stock pattern for this period is a slight build in stocks. This graph illustrates that, while the weekly and monthly stock numbers for the end of the month did track quite closely, the weekly data over most of the month exhibited the opposite behavior. The trend for the first three weeks was a declining stock pattern, altered only in the last week of the month with a nearly 8 million barrel stock increase that ultimately brought it close to what the monthly data showed. This also illustrates another advantage of weekly data (in addition to timeliness) in that you see detail that you do not see in the monthly data. Of course, this also shows that the weekly data can vary from week to week in ways that are difficult to predict.

To help ensure accuracy, a PSRS survey respondent is instructed to submit revisions to previously reported data if the respondent discovers an error greater than five percent of a previously reported value or if EIA requests a resubmission. Revision(s) to survey data may be based on a number of factors including:

(1) More accurate information becomes available to a respondent after a survey form is filed and the respondent resubmits corrected information.

(2) After submitting a survey form, a respondent determines that information submitted was incorrect (e.g., numbers were transposed, numbers were entered in the wrong item on the form, other reporting errors) and then resubmits corrected information.

(3) Based on its review and editing of the data, EIA may identify inconsistencies or anomalies in the data and request the respondent to recheck the data.

(4) A survey form is submitted too late for including its data in an information product.

All reported revisions to the data are entered into EIA's PSRS database for editing, imputation, and other analytic purposes. In nearly all cases the impact of resubmissions would be insignificant to the published data. EIA has published a revision to weekly data on average only once every 5 years, while revisions to the monthly data prior to release of the final PSA data are even less frequent. Consistent with the policy outlined in this notice, EIA has disseminated revised data only if the revision was expected to substantively affect understanding of the U.S. petroleum supply.

II. Current Actions

EIA is soliciting public comments on the following policy for disseminating revisions to PSRS data. This is a formal statement of the existing policy for PSRS data that has been in effect for over ten years.

With respect to the weekly PSRS data, EIA will only disseminate revised data if the revision is expected to substantively affect understanding of the U.S. petroleum supply. Whether to disseminate a revision to weekly data will be based on EIA's judgment of the revision's expected effect. A revision will be disseminated in the next regularly scheduled release of the weekly products. Weekly PSRS data have been revised on average only once every five years.

The monthly PSRS data reflect EIA's official data on petroleum supply and are considered to be more accurate than the weekly data because they are generally based upon company accounting records instead of company estimates and EIA has more time to edit and correct anomalous data. With respect to the monthly PSRS data, EIA will only disseminate revised data during the year if the revision is expected to substantively affect understanding of the U.S. petroleum supply. Whether to disseminate a revision during the year will be based on EIA's judgment of the revision's expected effect. At the end of year, the monthly data are revised to reflect all resubmitted data received during the year. These official final monthly petroleum supply data are included in the PSA. To assist users in understanding the expected effect of revisions to monthly data during the year, EIA publishes a separate monthly table, Impact of Resubmissions on Major Series, in each release of the PSM. During the last 10 years, EIA has not published revised PSM data outside this scheduled policy.

The PSA reflects EIA's final data on petroleum supply and will only be revised if, in EIA's judgment, a revision is expected to substantively affect understanding of the U.S. petroleum supply. EIA has not revised PSA data during the last 10 years.

When EIA disseminates any revised PSRS data, it will alert users to the affected data value(s) that are revised.

III. Request for Comments

The public should comment on the actions discussed in item II as well as the questions below.

General Issues

A. Is the proposed policy for disseminating revisions to PSRS data appropriate?

B. What additional actions could EIA take to help ensure and maximize the quality, objectivity, utility, and integrity of the PSRS data?

Comments submitted in response to this notice will be considered during development of EIA's policy for disseminating revisions to the PSRS data. The comments will also become a matter of public record.

After EIA has completed development of this policy, a Federal Register notice will be issued announcing the policy.

Statutory Authority: Section 52 of the Federal Energy Administration Act (Pub. L. 93-275, 15 U.S.C. 790a).

Issued in Washington, DC July 2, 2004.
Jay H. Casselberry,
Agency Clearance Officer, Statistics and Methods Group, Energy Information Administration.

[FR Doc. 04-15623 Filed 7-8-04; 8:45 am]

BILLING CODE 6450-01-P